DEPARTMENT OF ENERGY

Federal Energy Regulatory Commission

[Project No. 14787-004]

Black Canyon Hydro, LLC; Notice of Revised Schedule for the Seminoe Pumped Storage Project

This notice revises the Federal Energy Regulatory Commission's (Commission) schedule for processing Black Canyon Hydro, LLC's license application for the Seminoe Pumped Storage Project. A prior notice issued on March 31, 2023, identified an anticipated schedule for issuance of draft and final National Environmental Policy Act (NEPA) documents and a final order for the project. After the issuance of that notice, Black Canyon Hydro, LLC agreed to conduct additional studies requested by the agencies and file the study results by “November 2023,” and Commission staff issued a letter requiring the corresponding study reports and additional information to be filed with the Commission by November 30, 2023. To account for the additional time needed for Black Canyon Hydro, LLC to complete the studies and file the additional information, the application will be processed according to the following revised schedule.

Notice of Ready for Environmental Analysis: February 2024

Draft NEPA Document: October 2024

Final NEPA Document: May 9, 2025

In addition, in accordance with Title 41 of the Fixing America's Surface Transportation Act, enacted on December 4, 2015, agencies are to publish completion dates for all federal environmental reviews and authorizations. This notice identifies the Commission's anticipated schedule for issuance of the final order for the project, which is based on the revised issuance date for the final NEPA document. Accordingly, we currently anticipate issuing a final order for the project no later than:

Issuance of Final Order: September 18, 2025

If a schedule change becomes necessary, an additional notice will be provided so that interested parties and government agencies are kept informed of the project's progress.

Dated: July 10, 2023.
Kimberly D. Bose,
Secretary.

[FR Doc. 2023-14991 Filed 7-13-23; 8:45 am]

BILLING CODE 6717-01-P